DEPARTMENT OF THE INTERIOR

National Park Service

Notice of Inventory Completion: Raymond M. Alf Museum of Paleontology, Claremont, CA

AGENCY: National Park Service, Interior.

ACTION: Notice.

Notice is here given in accordance with the Native American Graves Protection and Repatriation Act (NAGPRA), 25 U.S.C. 3003, of the completion of an inventory of human remains in the control of the Raymond M. Alf Museum of Paleontology, Claremont, CA. The human remains were removed from San Juan County, WA, and British Columbia, Canada.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Raymond M. Alf Museum of Paleontology professional staff in consultation with representatives of the Lummi Tribe of the Lummi Reservation, Washington.

In 1963, human remains representing a minimum of one individual were removed from San Juan Island, San Juan County, WA. A location card is associated with the human remains, but no additional information exists on the circumstances of removal. No known individual was identified. No associated funerary objects are present.

The San Juan Islands are located in the northwest corner of Washington State immediately adjacent to the Canadian border. The San Juan Islands are part of the traditional area of the Central Coast Salish. Four permanent villages and one seasonal village are located on the North end of San Juan Island and are believed to be the home of the Songhees and Lummi. The seasonal village shows continual occupation for at least 5,000 years. Based on geographical location, officials of the Raymond M. Alf Museum reasonably believe that there is a shared group relationship of the human remains removed from San Juan Island with members of the Lummi Tribe of the Lummi Reservation, Washington.

In 1936, human remains representing a minimum of four individuals were removed from “Wallace Island” in British Columbia, Canada. No information exists on the circumstance of removal, other than a location card. No known individuals were identified. No associated funerary objects are present.

Wallace Island is located across the Boundary Pass from San Juan Island in Washington State. Aboriginal use of the Wallace Island is believed to date back at least 5,000 years, and it was in use at the time of European contact. Coastal Salish traditional territory includes the island, and has been the seasonal home of many Coast Salish groups. The Coast Salish in that area spoke different dialects of the Northern Straits Salish or Lekwungaynung language.

The Northern Straits Salish language stock, includes a number of dialects: Saanich, Samish, Songish, Sooke, Semiahmoo, and Lummi, which are similar enough that a speaker of one could understand a speaker of another. The Lummi spoke the Songish or Songhee dialect (also known as the Lekwungen or Lekungen). The Lummi Tribe is a part of the Coast Salish ethnolinguistic group, and Lummi is a dialect of the Northern Straits Salish. The Samish, Lummi, and Semiahmoo controlled the extreme northern coast of Washington and the southwestern corner of British Columbia, where “Wallace Island” is located. Based on language and geographical location, officials of the Raymond M. Alf Museum reasonably believe that there is a shared group relationship to the individuals removed from “Wallace Island” with members of the Lummi Tribe of the Lummi Reservation, Washington.

Officials of the Raymond M. Alf Museum of Paleontology have determined that, pursuant to 25 U.S.C. 3001 (9-10), the human remains described above represent the physical remains of five individuals of Native American ancestry. Officials of the Raymond M. Alf Museum of Paleontology also have determined that, pursuant to 25 U.S.C. 3001 (2), there is a relationship of shared group identity that can be reasonably traced between the Native American human remains and the Lummi Tribe of the Lummi Reservation, Washington.

Representatives of any other Indian tribe that believes itself to be culturally affiliated with the human remains should contact Don Lofgren, Director, Raymond M. Alf Museum of Paleontology, 1175 West Baseline Road, Claremont, CA 91711, telephone (909) 624-2798, before April 6, 2009. Repatriation of the human remains to the Lummi Tribe of the Lummi Reservation, Washington may proceed after that date if no additional claimants come forward.

Raymond M. Alf Museum of Paleontology is responsible for notifying the Lummi Tribe of the Lummi Reservation, Washington that this notice has been published.

Dated: January 14, 2009.
Sherry Hutt,
Manager, National NAGPRA Program.

[FR Doc. E9-4672 Filed 3-4-09; 8:45 am]

BILLING CODE 4312-50-S